DEPARTMENT OF COMMERCE

National Oceanic and Atmospheric Administration

Proposed Information Collection; Comment Request; Socioeconomic Survey—Manell-Geus (Guam)

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 7, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Peter Edwards, (301) 563-1145 Ext 145 or at Peter.Edwards@noaa.gov.

SUPPLEMENTARY INFORMATION:

I. Abstract

This request is for a new information collection. The purpose of this information collection is to obtain information from individuals in Merizo, Guam. Specifically, NOAA is seeking information on the knowledge, attitudes and perceptions of watershed and coral reef conditions, as well as information on knowledge and attitudes related to specific reef protection activities in the Manell-Geus watershed and adjacent waters. In addition, this survey will provide for the ongoing collection of social and economic data related to the communities affected by coral reef conservation programs.

Manell-Geus is one of ten sites in the nation selected as a focus area for NOAA's Habitat Blueprint initiative. Community support and engagement are key elements towards successfully building resilience. We intend to use the information collected through this instrument for research purposes as well as measuring and improving the results of our coral reef protection programs. Because many of our efforts to protect reefs rely on education and changing attitudes toward reef protection, the information collected will allow NOAA staff to ensure programs are designed appropriately at the start, future program evaluation efforts are as successful as possible, and outreach efforts are targeting the intended recipients with useful information.

II. Method of Collection

Information will be collected using a combination of approaches namely household surveys, focus groups, and key informant interviews. The combination of these approaches is the most efficient and effective way to collect this kind of information at the village level for this U.S. jurisdiction.

III. Data

OMB Control Number: 0648-xxxx.

Form Number: NA.

Type of Review: Regular submission (request for a new information collection).

Affected Public: Individuals or households.

Estimated Number of Respondents: 400.

Estimated Time per Response: 25 minutes.

Estimated Total Annual Burden Hours: 167.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sarah Brabson,
NOAA PRA Clearance Officer.

[FR Doc. 2015-11206 Filed 5-7-15; 8:45 am]

BILLING CODE 3510-JS-P